DEPARTMENT OF TRANSPORTATION

Surface Transportation Board

[STB Finance Docket No. 35046 (Sub-No. 1)]

Duluth, Missabe and Iron Range Railway Company—Trackage Rights Exemption—Duluth, Winnipeg and Pacific Railway Company

Pursuant to a written trackage rights amendment agreement,¹ Duluth, Winnipeg and Pacific Railway Company (DWP) has agreed to amend and extend the existing overhead trackage rights previously granted to Duluth, Missabe and Iron Range Railway Company (DMIR).² DMIR proposes to acquire additional overhead trackage rights over DWP's line of railroad between milepost 70.7 at Shelton Junction, MN, and milepost 165.3 at Ranier, MN, a distance of approximately 94.6 miles. DMIR states that the extension of its existing trackage rights will allow DMIR to operate trains from DMIR's Proctor Yard near Duluth, MN, over existing trackage rights to Shelton Junction, and on to the DWP terminal at Ranier.

¹ Duluth, Missabe and Iron Range Railway Company has submitted a draft agreement. As required by 49 CFR 1180.6(a)(7)(ii), DMIR states that it will submit a copy of the executed agreement within 10 days of the date the agreement is executed.

² The original trackage rights were exempted in Duluth, Missabe and Iron Range Railway Company—Trackage Rights—Duluth, Winnipeg and Pacific Railway Company, STB Finance Docket No. 34424 (Sub-No. 2) (STB served Apr. 9, 2004), and were exempted as amended in Duluth, Missabe and Iron Range Railway Company—Amended Trackage Rights Exemption—Duluth, Winnipeg and Pacific Railway Company, STB Finance Docket No. 35046 (STB served June 29, 2007). DWP and DMIR are indirect subsidiaries of Canadian National Railway Company (CN). See Canadian National Railway Company and Grand Trunk Corporation—Control—Duluth, Missabe and Iron Range Railway Company, et al., STB Finance Docket No. 34424 (STB served Apr. 9, 2004).

The purpose of the proposed transaction is to expand the existing DMIR-DWP paired overhead trackage rights arrangement between Nopeming Junction, MN, and Shelton Junction to the next logical terminal at Ranier. According to DMIR, this will accommodate improvements in yard facilities and changes in terminal operations being undertaken in the Twin Ports of Duluth, MN, and Superior, WI, by DMIR, DWP, and Wisconsin Central Ltd., another CN affiliate. As a result, DMIR states that its expanded trackage rights will improve crew utilization, operational flexibility, and traffic fluidity in the area.

The transaction is scheduled to be consummated on November 25, 2009, the effective date of the exemption (30 days after the exemption was filed).

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

Pursuant to the Consolidated Appropriations Act, 2008, Public Law No. 110-161, § 193, 121 Stat. 1844 (2007), nothing in this decision authorizes the following activities at any solid waste rail transfer facility: Collecting, storing, or transferring solid waste outside of its original shipping container; or separating or processing solid waste (including baling, crushing, compacting, and shredding). The term “solid waste” is defined in section 1004 of the Solid Waste Disposal Act, 42 U.S.C. 6903.

This notice is filed under 49 CFR 1180.2(d)(7). If the notice contains false or misleading information, the exemption is void ab initio. Petitions to revoke the exemption under 49 U.S.C. 10502(d) may be filed at any time. The filing of a petition to revoke will not automatically stay the effectiveness of the exemption. Petitions for stay must be filed no later than November 18, 2009 (at least 7 days before the exemption becomes effective).

An original and 10 copies of all pleadings, referring to STB Finance Docket No. 35046 (Sub-No. 1), must be filed with the Surface Transportation Board, 395 E Street, SW., Washington, DC 20423-0001. In addition, a copy of each pleading must be served on Thomas J. Litwiler, Fletcher & Sippel LLC, 29 North Wacker Drive, Suite 920, Chicago, IL 60606-2832.

Board decisions and notices are available on our Web site at: “http://www.stb.dot.gov.”

Decided: November 5, 2009.
By the Board, Rachel D. Campbell, Director, Office of Proceedings.
Kulunie L. Cannon,
Clearance Clerk.

[FR Doc. E9-27060 Filed 11-9-09; 8:45 am]

BILLING CODE 4915-01-P